DEPARTMENT OF EDUCATION

34 CFR Chapter VI

[Docket ID ED-2012-OPE-0008]

Negotiated Rulemaking Committee; Public Hearings; Correction

AGENCY: Office of Postsecondary Education, Department of Education.

ACTION: Intent to establish negotiated rulemaking committee; correction.

SUMMARY: In May 2012, we announced our intention to establish a negotiated rulemaking committee to prepare proposed regulations for the Federal Student Aid programs authorized under title IV of the Higher Education Act of 1965, as amended. On April 16, 2013, we published in the Federal Register a notice announcing additional topics for consideration by that committee. We announced three public hearings at which interested parties may comment. We also announced that for anyone unable to attend a public hearing, we would accept written comments. This document corrects the inconsistent docket numbers we provided for commenters in the April 16 document. The correct docket number is ED-2012-OPE-0008.

DATES: Effective April 30, 2013.

SUPPLEMENTARY INFORMATION:

Correction

In the Federal Register of April 16, 2013 (78 FR 22467), on page 22467, in the first column, in the headings for the notice, we correct the docket number to read: “[Docket ID ED-2012-OPE-0008]”

The docket number for the notice is correctly stated as “ED-2012-OPE-0008” on page 22467 in the third column of the notice. However, in the heading in the first column on page 22467, the docket number is incorrectly stated as “ED-2013-OPE-0008,” rather than the correct “ED-2012-OPE-0008.” We are correcting that error.

Program Authority: 20 U.S.C. 1098a.

FOR FURTHER INFORMATION CONTACT: Wendy Macias, U.S. Department of Education, 1990 K Street NW., Room 8017, Washington, DC 20006. Telephone: (202) 502-7526. Email: Wendy.Macias@ed.gov.

If you use a telecommunications device for the deaf (TDD) or a text telephone (TTY), call the Federal Relay Service (FRS), toll free, at 1-800-877-8339.

Accessible Format: Individuals with disabilities can obtain this document and a copy of the application package in an accessible format (e.g., braille, large print, audiotape, or compact disc) on request to the program contact persons listed under For Further Information Contact in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 25, 2013,
Martha Kanter,
Under Secretary for Education.

[FR Doc. 2013-10104 Filed 4-29-13; 8:45 am]

BILLING CODE 4000-01-P